DEPARTMENT OF LABOR

Employment and Training Administration

Directives System; Request for Information

This Notice is a request for information regarding possible revisions to the directives system used by the Employment and Training Administration (ETA) to communicate guidance and information to the States and other grant recipients. We are now accepting suggestions from all interested parties who wish to contribute to the streamlining of the directives system to accommodate the One-Stop environment. We intend ultimately to provide directives electronically, and, thus, more expeditiously, to States and other grant recipients.

Background

The ETA directives system has been in place for many years. It is used to disseminate the Department's interpretations of Federal law requirements; procedural, administrative, management, and program direction; and other information to the States and other direct grant recipients. The directives system also is used for communications between the ETA national office and its regional offices. They are distributed to standardized lists of recipients who need the instructions or information they contain.

All directives originating within the National Office of ETA must be issued through the official ETA directives system. Directives are used to provide both interpretations and operational guidance.

Interpretative guidance directives may provide major clarifications and interpretations of program initiatives, broad operating policies, and program standards to all States and other direct grant recipients. This guidance, in conjunction with applicable legislation and regulations, comprises the standards governing ETA-funded programs in the States.

Operational guidance directives provide detailed information which supplements the interpretative guidance. This includes requests for reports and other materials, definition or interpretation of specific operating requirements, and dissemination of other information relating to program or administrative management. Operational guidance assists States in complying with Federal law.

ETA sends nine (9) different categories of directives to States (although the last three are rarely used):

1. The Training and Employment Guidance Letter (TEGL) is used to transmit funding allotments, program development and interpretative guidance statements to State Workforce Liaisons, State Employment Security Agencies, State Worker Adjustment Liaisons, and One-Stop Career Center System Leads.

2. The Training and Employment Information Notice (TEIN) is used to clarify existing interpretations or program information, transmit planning schedules, and reiterate previously issued interpretations. The TEIN is sent to State Workforce Liaisons, State Employment Security Agencies, State Worker Adjustment Liaisons, and One-Stop Career Center System Leads.

3. The Employment Service Program Letter (ESPL) is used to transmit instructions; information concerning objectives; standards; rules; regulations; procedures; and related information for developing and implementing employment service programs. It is sent to State Employment Security Agencies.

4. The Unemployment Insurance Program Letter (UIPL) is used to transmit material about objectives, rules, regulations, standards, procedures and related information for administering the unemployment insurance programs. It is sent to State Employment Security Agencies.

5. The General Administration Letter (GAL) is used to transmit material concerning the overall organization and general administration of the employment service, unemployment insurance, and related programs. It is sent to State Employment Security Agencies.

6. Handbooks include technical instructions, information, or guidance about either a specific program or administrative area or a group of related activities or functions pertaining to a single program or administrative area. Technical assistance guides are included in this category. Handbooks are sent to State Employment Security Agencies, and Regional Offices.

7. The Reports and Analysis Letter (RAL) is used to transmit instructions and samples of forms for statistical reports (except budget and fiscal reports) which State agencies submit to ETA National and Regional Offices. It may also be used to supplement statistical reporting requirements. It is sent to State Employment Security Agencies.

8. The Fiscal Letter (FL) is used to transmit material concerning fiscal standards, fiscal reports and procedures, the budgetary process, and expenditure of funds (except the unemployment compensation trust fund). It is sent to State Employment Security Agencies.

9. The Employment Security Manual (ESM) addresses State and local program operating interpretations; standards; and procedural and reporting instructions for the operation of the State employment security system. It is sent to State Employment Security Agencies.

In recent years electronic communication has supplemented the transmittal of hard copies of these directives.

In addition, ETA's special targeted programs, such as the Migrant and Seasonal Farmworker Program; Indian and Native American Program; Senior Community Service Employment Program; Job Corps; and the Office of Apprenticeship Training, Employer and Labor Services (ATELS) have separate means of communicating to their field structure, as follows:

Apprenticeship Training, Employer and Labor Services: Circulars provide interpretations, guidelines, instructions, and procedures governing ATELS operations to regional, State, and local staff. Field instructions provide administrative instructions to the same audience. Bulletins are used to provide information.

Job Corps: Each of the following are addressed to Job Corps Centers and Regional Directors: orders are used to delegate authority; bulletins provide policy, standards, procedures and guidance; notices provide information or request one-time information; and handbooks contain interpretative standards and procedural instructions for centers.

Office of National Programs: Bulletins are used to provide interpretations, standards, procedures, and guidance to grantees and contractors for Indian and Native American Programs; Migrant and Seasonal Farmworker Programs; the Senior Community Service Employment Program; and the Disability Employment and Initiatives Program.

The National School-to-Work Office uses bulletins to provide interpretations, standards, procedures, and guidance to grantees and contractors.

Several developments have prompted ETA to seek review of the current directives system. First, the Workforce Investment Act (WIA) was enacted in August 1998 and replaced the Job Training Partnership Act on July 1, 2000. This legislation reforms many ETA programs and links most of them more closely together through a One-Stop service delivery system. Second, WIA requires ETA to reorganize to align functions to carry out the new legislation. Third, advances in technology for providing Internet access to directives and reporting requirements, as well as on-line reporting, have enabled more efficient means of communication between ETA and its partners. In light of the above, and because the current directives system predates these developments, ETA decided that the directives system needs to be reconsidered.

Principles Governing the Redesign of the Directives System

An internal ETA task group was convened to consider how the ETA directives system might be improved. The task group determined that the following principles or objectives should guide the redesign of the directives system.

Customer Focus: The directives system should provide timely, quick, and accurate information to the people who need to use it.

One Cohesive System: All ETA programs should be recognized as part of a single workforce development system—America's Workforce Network—and the directives system should be organized in a way that reinforces this.

Sharing of Information: ETA should encourage free and open communication with its customers. Full awareness of policies and sharing of information will contribute to greater efficiency and effectiveness in achieving the objectives of ETA's programs.

Logic and Clarity: The directives system should have logic and clarity. It should be simplified because there are currently so many types of directives/issuances, they may cause confusion among customers and stakeholders about where to look for information and guidance. Also, limiting different types of communications to different audiences does not facilitate the sharing of information.

Comprehensiveness: All directives used by ETA should be under the umbrella of a single system.

Use of Electronic Communication: Achieving the objectives of speedy and open communications, as well as easy access to information, argues for utilizing electronic means of communication. Policy and information should be made available quickly on an appropriate ETA website that includes a comprehensive electronic directory of directives, searchable by program and topic. Customers (e.g., grantees) should be able to subscribe to a list serve which will notify them when a new directive is issued, and have the option of receiving notification of only certain categories of directives.

Request for Public Comment

The objective of this review of the ETA directives system is to determine how to improve the effectiveness of the system in communicating guidance and information. To assist us, we seek public comment from users of ETA directives and other interested parties. Public comment is particularly invited in response to the following questions. However, other comments, which may not be specifically embraced by these questions, may also be submitted.

1. Does the current ETA directives system meet your needs? If not, describe any problems you have identified.

2. Can you easily access guidance and information relevant to your needs through the current directives system?

3. What different features would you like to see in a revised directives system?

4. Should the directives system be limited to communicating policy and guidance (i.e., information and notices of meetings would be communicated outside the directives system)?

5. Is there good justification to maintain a specific program's directive series like Job Corps Bulletins, ATELS Circulars, Unemployment Insurance Program Letters, or others?

6. Would it be acceptable if directives were available only electronically (i.e., a Web-based system), provided there was a suitable transition period?

7. If the response to question 6 is affirmative, how long a transition period would you suggest is needed to go to an all-electronic system?

This notice is a general solicitation of comments from the public.

DATES: Commenters are requested to provide two (2) copies of their written submission to the Office of Policy and Research by 5:00 p.m. on November 13, 2000.

ADDRESSES: Written responses should be addressed to Terry Finegan at the Office of Policy and Research, Employment and Training Administration, U.S. Department of Labor, 200 Constitution Avenue, NW., Room N-5637, Washington, DC 20210. Responses also may be E-Mailed to directivessystem@doleta.gov.

FOR FURTHER INFORMATION CONTACT: For further information, contact Terry Finegan, Office of Policy and Research, Employment and Training Administration at (202) 693-3656; fax (202) 693-2766. (These are not toll-free numbers.)

Signed at Washington, D.C. this 21st day of September 2000.
Raymond L. Bramucci,
Assistant Secretary.

[FR Doc. 00-24837 Filed 9-26-00; 8:45 am]

BILLING CODE 4510-30-P